DEPARTMENT OF TRANSPORTATION

Federal Aviation Administration

14 CFR Parts 25, 91, 121, and 125

[Docket No. FAA-2024-2052; Amdt. Nos. 25-153A, 91-377A, 121-393A, 125-76A]

RIN 2120-AM00

Modernization of Passenger Information Requirements Relating to “No Smoking” Sign Illumination; Correction; Confirmation of Effective Date

AGENCY: Federal Aviation Administration (FAA), Department Of Transportation (DOT).

ACTION: Direct final rule; correction; confirmation of effective date.

SUMMARY: This action confirms the October 22, 2024, effective date of the Modernization of Passenger Information Requirements Relating to “No Smoking” Sign Illumination direct final rule published on August 23, 2024, and responds to the comments received on that direct final rule. This document also corrects the authority citation for a Code of Federal Regulations part revised in the direct final rule.

DATES: The effective date of October 22, 2024, for the direct final rule published August 23, 2024 (89 FR 68094) is confirmed. The correction to the direct final rule published August 23, 2024 (89 FR 68094), is effective October 22, 2024.

ADDRESSES: For information on where to obtain copies of rulemaking documents and other information related to this action, see “How To Obtain Additional Information” in the SUPPLEMENTARY INFORMATION section of this document.

FOR FURTHER INFORMATION CONTACT: Catherine Burnett, Flight Standards Implementation and Integration Group, Air Transportation Division, Federal Aviation Administration, 800 Independence Avenue SW, Washington, DC 20591; telephone (202) 267-8166; email Catherine.Burnett@faa.gov.

SUPPLEMENTARY INFORMATION:

I. Background

This action confirms the effective date of the Modernization of Passenger Information Requirements Relating to “No Smoking” Sign Illumination direct final rule.¹ Currently, crewmembers must be able to manually turn aircraft “No Smoking” signs on and off. This requirement was implemented prior to the prohibition on smoking in passenger cabins during all phases of flight. As a general matter, there is no longer a need for the signs to indicate two different states of smoking permissibility because smoking is not typically permitted at any time on most transport category aircraft operated commercially in the United States. However, when smoking is permitted on aircraft, such as when they are operated privately, crewmembers still must be able to manually turn “No Smoking” signs on and off to inform passengers when it is acceptable to smoke. This direct final rule provides more flexibility by allowing “No Smoking” signs to be illuminated continuously. This direct final rule revises five sections of regulations that affect aircraft manufacturers and aircraft operators.

¹ Modernization of Passenger Information Requirements Relating to “No Smoking” Sign Illumination direct final rule, 89 FR 68094 (Aug. 23, 2024).

Aircraft manufacturers will benefit from relieving changes in title 14 of the Code of Federal Regulations (14 CFR), part 25. In addition, pilots and aircraft operators will benefit from relieving changes to regulations in parts 91, 121, and 125. The revisions to these five sections of 14 CFR will allow for “No Smoking” signs to be illuminated continuously without the requirement for a physical or software switch to be built into the aircraft at the factory or used by a crewmember during an aircraft operation. Specifically, the revision to part 25 imposes no new requirements on manufacturers; they may continue to make aircraft with manually operated “No Smoking” signs. However, as an alternative, the revision to part 25 allows aircraft on which the “No Smoking” signs remain illuminated continuously to receive type certification from the FAA without having to request relief from the current regulations. Similarly, with this direct final rule, operators will be able to operate aircraft where signs can either be manually operated by crewmembers or remain continuously illuminated.

The FAA has long recognized the incongruity between the prohibition on smoking in most commercial aircraft and the requirement for manufacturers to construct, and operators to operate, aircraft with “No Smoking” signs that can be turned on and off. For almost 30 years, the FAA has addressed this incongruity through equivalent level of safety (ELOS) findings ² and regulatory exemptions,³ which allows aircraft to have “No Smoking” signs that are continuously illuminated during flight operations. This rule makes such ELOS findings and regulatory exemptions unnecessary. Manufacturers will be able to continue to manufacture, and pilots and operators will be able to continue to operate, aircraft with “No Smoking” signs that can be turned on and off or “No Smoking” signs that are illuminated continuously.

² An aircraft can be type certificated, despite apparent noncompliance with specific airworthiness provisions, if “any airworthiness provisions not complied with are compensated for by factors that provide an equivalent level of safety.” 14 CFR 21.21(b)(1). These equivalent level of safety (ELOS) findings, also known as equivalent safety findings (ESF), can be described in issue papers. Issue papers are a structured means to address certain issues in the certification and validation processes of aircraft and aircraft parts. Issue papers establish a vehicle for formal communication between the FAA and the applicant, and track resolution of the subject issues. FAA Advisory Circular (AC) 20-166.

³ A petition for exemption is a request to the FAA by an individual or entity asking for relief from the requirements of a current regulation. 14 CFR 11.15.

Additionally, to align with the final rule Use of Supplemental Restraint Systems (89 FR 67834), effective October 21, 2024, the authority citation to part 91 in the direct final rule is corrected to remove the reference to 49 U.S.C. 106(g) which was removed and reserved by section 202 of Public Law 118-63.

II. Discussion of Comments

The “No Smoking” signs direct final rule was published August 23, 2024, and provided a period for public comment until September 23, 2024. The FAA received three comments related to this direct final rule. Two comments were from individual commenters, and one comment was from Airlines for America (A4A). A4A supported the direct final rule as proposed.

One individual commenter appreciated the anticipated stakeholder relief once regulated entities need no longer apply for exemptions for “No Smoking” signs. The commenter asserted that the FAA should consider using more direct final rulemaking actions, as appropriate, to revise regulations when there are numerous variances or exemptions from a CFR section. The commenter specifically noted, by way of example, numerous variances for EXIT signs that could be found in the Federal Register.⁴

⁴ Petition for Exemption; Summary of Petition Received; Delta Air Lines, Inc., FR Doc. 2018-03115 (Feb. 15, 2018); Petition for Exemption; Summary of Petition Received; Delta Air Lines, Inc., FR Doc. 2018-25364 (Nov. 21, 2018).

The FAA periodically reviews regulations and revises 14 CFR to support the safety and efficiency of the national airspace system. That review may result in a rulemaking action if it is appropriate to do so. While EXIT signs are outside the scope of this direct final rule, the FAA may address EXIT signs in a future rulemaking action.

The second individual commenter asserted that the “No Smoking” signs should be removed entirely. The commenter asserted that there are many passenger activities prohibited by FAA regulations, and the FAA should evaluate why only this prohibition is illuminated with signage. Therefore, the commenter believed the FAA should consider removing the “No Smoking” signs entirely to align with other prohibited activities that lack signage.

While there are many prohibited passenger activities on an aircraft, the FAA believes that the physical “No Smoking” sign, or the authorized equivalent thereof, are an important safety requirement. The physical reminder of the sign signals to passengers that they are not allowed to engage in a potentially hazardous smoking activity while onboard an aircraft. The “No Smoking” signs have been installed on aircraft for decades and continue to be an effective reminder for the traveling public. Therefore, the FAA will continue to require signage prohibiting smoking in the passenger cabin.

After consideration of the comments submitted in response to the direct final rule, the FAA has determined that no further rulemaking action is necessary. Therefore, the effective date of the direct final rule published August 23, 2024, at 89 FR 68094 is confirmed.

III. Correction of the Authority Citation for Part 91

In the Federal Register of August 22, 2024, in final rule Use of Supplemental Restraint Systems at 89 FR 67834, the FAA revised the authority citation for part 91 by removing 49 U.S.C. 106(g). However, the FAA retained that authority citation for part 91 in the published Modernization of Passenger Information Requirements Relating to “No Smoking” Sign Illumination direct final rule published in the Federal Register of August 23, 2024, at 89 FR 68094. To correct this error, the FAA is revising the authority citation for part 91.

IV. How To Obtain Additional Information

A. Electronic Access and Filing

A copy of the direct final rule, all comments received, this confirmation document, and all background material may be viewed online at www.regulations.gov using the docket number listed above. A copy of this confirmation document will be placed in the docket. Electronic retrieval help and guidelines are available on the website. It is available 24 hours each day, 365 days each year. An electronic copy of this document may also be downloaded from the Office of the Federal Register's website at www.federalregister.gov and the Government Publishing Office's website at www.govinfo.gov. A copy may also be found on the FAA's Regulations and Policies website at www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents the FAA considered in developing this final rule, including economic analyses and technical reports, may be accessed in the electronic docket for this rulemaking.

B. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA on the internet, visit www.faa.gov/regulations_policies/rulemaking/sbre_act/.

Correction

In FR Doc. 2024-18602 in the Federal Register of Friday, August 23, 2024, the following correction is made:

PART 91 [Corrected]

1. On page 68099, in the third column, in part 91, in amendment 3, the authority citation “49 U.S.C. 106(f), 106(g), 40101, 40103, 40105, 40113, 40120, 44101, 44111, 44701, 44704, 44709, 44711, 44712, 44715, 44716, 44717, 44722, 46306, 46315, 46316, 46504, 46506-46507, 47122, 47508, 47528-47531, 47534, Public Law 114-190, 130 Stat. 615 (49 U.S.C. 44703 note); articles 12 and 29 of the Convention on International Civil Aviation (61 Stat. 1180), (126 Stat. 11).” is corrected to read “49 U.S.C. 106(f), 40101, 40103, 40105, 40113, 40120, 44101, 44111, 44701, 44704, 44709, 44711, 44712, 44715, 44716, 44717, 44722, 46306, 46315, 46316, 46504, 46506-46507, 47122, 47508, 47528-47531, 47534, Public Law 114-190, 130 Stat. 615 (49 U.S.C. 44703 note); articles 12 and 29 of the Convention on International Civil Aviation (61 Stat. 1180), (126 Stat. 11).”

Issued under authority provided by 49 U.S.C. 106(f), 44701(a), and 41706(e) in Washington, DC.

Brandon Roberts,
Executive Director, Office of Rulemaking.

[FR Doc. 2024-23136 Filed 10-7-24; 8:45 am]

BILLING CODE 4910-13-P